DEPARTMENT OF TRANSPORTATION

Office of the Secretary; Notice of Applications for Certificates of Public Convenience and Necessity and Foreign Air Carrier Permits Filed Under Subpart B (Formerly Subpart Q) During the Week Ending March 8, 2002

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-1997-2911.

Date Filed: March 6, 2002.

Due Date for Answers, Conforming Applications, or Motion to Modify Scope: March 27, 2002.

Description: Application of United Air Lines, Inc., pursuant to 49 U.S.C. Sections 41102, 41108 and Subpart B, requesting renewal of its experimental certificate of public convenience and necessity for Route 747, to engage in scheduled foreign air transportation of persons, property, and mail between a point or points in the United States, the intermediate point Frankfurt, Germany, and the coterminal points Johannesburg and Cape Town, South Africa, and beyond South Africa to Harare, Zimbabwe.

Andrea M. Jenkins,
Federal Register Liaison.

[FR Doc. 02-6966 Filed 3-21-02; 8:45 am]

BILLING CODE 4910-62-P